DEPARTMENT OF TRANSPORTATION

Federal Aviation Administration

14 CFR Part 71

[Docket No. FAA-2024-0053; Airspace Docket No. 23-AWA-5]

RIN 2120-AA66

Amendment of Class C Airspace; Fort Lauderdale-Hollywood International Airport, FL

AGENCY: Federal Aviation Administration (FAA), DOT.

ACTION: Notice of proposed rulemaking (NPRM).

SUMMARY: This action proposes to amend the Fort Lauderdale-Hollywood International Airport, FL (FLL), Class C airspace by subdividing the southwest corner of Area E to reduce the lateral boundary of the FLL Class C airspace. The FAA is proposing this amendment to enhance safety and enable more efficient operations for non-participating aircraft operations at North Perry Airport, FL (HWO). Additionally, this action makes multiple minor editorial amendments to the airspace description.

DATES: Comments must be received on or before June 17, 2024.

ADDRESSES: Send comments identified by FAA Docket No. FAA-2024-0053 and Airspace Docket No. 23-AWA-5 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify terminal airspace as required to preserve the safe and efficient flow of air traffic in the Fort Lauderdale, FL area.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

Class C Airspace is published in paragraph 4000 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

Fort Lauderdale-Hollywood International Airport (FLL), FL, is located three miles southwest of the city of Fort Lauderdale, FL. North Perry Airport (HWO), FL, is located five miles west of the city of Hollywood, FL, and six- and one-half miles southwest of FLL. HWO has 8 flight schools and more than 250 general aviation aircraft based there.

Miami Airport Traffic Control Tower (ATCT) has hosted several meet-and-greet meetings and other in-person discussions with local aircraft owners and flight schools. During these discussions, local operators expressed safety concerns to Miami ATCT about Visual Flight Rules (VFR) aircraft arriving and departing HWO from the west. Specifically, for aircraft who remain outside of the FLL Class C airspace and Miami Class B airspace, and not receiving Air Traffic Control (ATC) services. These aircraft fly toward and converge on a common point that is an area southwest of where the north-south portion of United States (U.S.) Route 27 intersect a 15 nautical mile (NM) radius of Miami International Airport, which is the southwest corner of Area E, of the FLL Class C airspace (Convergence Point). These aircraft fly below the Miami Class B airspace and converge on the Convergence Point while remaining outside of the FLL Class C airspace. Aircraft naturally funnel to the Convergence Point which causes a high congestion of aircraft operations. Additionally, flight school aircraft commonly transition between HWO and the charted practice areas, alert areas A-291B and A-291C, that also contribute to additional aircraft near the Convergence Point.

Miami ATCT made recommendations to subdivide Area E of the FLL Class C into two parts along a line beginning at lat. 26°05′22″ N, long. 080°26′02″ W; moving southeast to lat. 26°01′38″ N, long. 080°23′44″ W. The floor of Class C airspace southwest of this line would be raised from 1,500 feet mean sea level (MSL) to 2,600 feet MSL; reducing the vertical size of Area E by 1,100 feet. This 1,100-foot reduction of Class C airspace would become Class E airspace. This modification would allow aircraft transitioning to and from HWO, from the west, additional Class E airspace to maneuver near the Convergence Point. This would reduce aircraft congestion and significantly increase safety while still providing adequate Class C airspace for operations arriving and departing FLL.

The Proposal

The FAA is proposing an amendment to 14 CFR part 71 by updating the Fort Lauderdale-Hollywood International Airport, FL, Class C airspace description as published in FAA Order JO 7400.11H, Airspace Designations and Reporting Points (see the attached chart).

The FAA proposes to subdivide Area E of the FLL Class C airspace into two areas along a line extending between lat. 26°05′22″ N, long. 080°26′02″ W and lat. 26°01′38″ N, long. 080°23′44″ W. The portion of Area E northeast of this proposed subdivision boundary would remain with a floor of 1,500 feet MSL and a ceiling of 4,000 feet MSL. The FAA proposes to create a new area southwest of the subdivision boundary with a floor of 2,600 feet MSL and a ceiling of feet 4,000 MSL. This proposed new area would be referred to as “Area H”. As amended, Area E would extend upward from 1,500 feet MSL to 4,000 feet MSL, and Area H would extend upward from 2,600 feet MSL to 4,000 feet MSL. Additionally, the FAA proposes to add an exclusion to Area H that excludes the overlying Miami Class B airspace from Area H.

The FAA also proposes to make a minor correction to the first line of the description's text header, listing just the city and state location of the airport. This change follows the FAA's current airspace description formatting requirements.

The FAA further proposes a technical amendment to a geographic coordinate in the description of Area E. This minor amendment to the geographic coordinate more accurately describes the intersection of where Area E meets U.S. Route 27. Updating this coordinate does not change the boundary of Area E, but rather increases the accuracy of the road due to digital precision survey. The proposal would amend the geographic coordinate from “lat. 26°06′02″ N, long. 080°26′27″ W” to “lat. 26°05′22″ N, long. 080°26′02″ W.”

Additionally, the FAA would make a minor editorial change to the Area C description to clarify that Area C excludes the overlying Miami Class B airspace.

Regulatory Notices and Analyses

Federal agencies consider impacts of regulatory actions under a variety of executive orders and other requirements. First, Executive Order 12866 and Executive Order 13563, as amended by Executive Order 14094 (“Modernizing Regulatory Review”), direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and Tribal governments, in the aggregate, or by the private sector, of $100 million or more (adjusted annually for inflation) in any one year. The current threshold after adjustment for inflation is $177 million using the most current (2022) Implicit Price Deflator for the Gross Domestic Product.

In conducting these analyses, the FAA has determined that this proposed rule: will result in benefits that justify costs; is not an economically “significant regulatory action” as defined in section 3(f) of Executive Order 12866, as amended; will not have a significant economic impact on a substantial number of small entities; will not create unnecessary obstacles to the foreign commerce of the United States; and will not impose an unfunded mandate on State, local, or Tribal governments, or on the private sector.

Regulatory Impact Analysis

Local aircraft owners and flight schools expressed safety concerns to Miami ATCT for VFR aircraft arriving and departing HWO from the west. Specifically, these concerns apply to aircraft who are remaining outside of the FLL Class C airspace and Miami Class B airspace, and not receiving Air Traffic Control (ATC) services. These aircraft fly toward and converge on a common point that is an area southwest of where the north-south portion of U.S. Route 27 intersect a 15 NM radius of Miami International Airport, which is the southwest corner of Area E, of the FLL Class C airspace (Convergence Point). These aircraft fly below the Miami Class B airspace and converge on the Convergence Point while remaining outside of the FLL Class C airspace. Aircraft naturally funnel to the Convergence Point which causes a high congestion of aircraft operations. Additionally, flight school aircraft commonly transition between HWO and the charted practice areas; alert areas A-291B and A-291C; that also contribute to additional aircraft near the Convergence Point.

This action proposes to amend the Fort Lauderdale-Hollywood International Airport, FL (FLL), Class C airspace by subdividing the southwest corner of Area E and returning a portion of Class C airspace to become Class E airspace. This modification would allow aircraft transitioning to and from HWO, from the west, additional Class E airspace to maneuver near the Convergence Point. This would reduce aircraft congestion while still providing adequate Class C airspace for operations arriving and departing FLL.

Reducing congestion has two impacts: reducing aircraft operating expenses as well as enhancing safety. Aircraft that would fly through the proposed modified area could use a shorter route of flight which would result in a small reduction of operating expenses. Additionally, reducing congestion would enhance safety by increasing the volume of airspace that these aircraft (aircraft who do not receive ATC services and remain outside of the FLL Class C airspace and Miami Class B airspace) can use, thus giving aircraft the opportunity to spread out more, reducing the potential for mid-air collisions.

Regulatory Flexibility Act

The Regulatory Flexibility Act (RFA) of 1980, (5 U.S.C. 601-612), as amended by the Small Business Regulatory Enforcement Fairness Act of 1996 (Pub. L. 104-121) and the Small Business Jobs Act of 2010 (Pub. L. 111-240), requires Federal agencies to consider the effects of the regulatory action on small business and other small entities and to minimize any significant economic impact. The term “small entities” comprises small businesses and not-for-profit organizations that are independently owned and operated and are not dominant in their fields, and governmental jurisdictions with populations of less than 50,000.

This action proposes to amend the Fort Lauderdale-Hollywood International Airport, FL (FLL), Class C airspace by subdividing the southwest corner of Area E and returning a portion of Class C airspace to become Class E airspace. These proposed modifications are intended to reduce aircraft congestion and increase safety while still providing adequate Class C airspace for operations arriving and departing FLL. Therefore, the FAA proposes to certify that the rule will not have a significant economic impact on a substantial number of small entities. The FAA welcomes comments on the basis for this certification.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety and does not operate in a manner that excludes imports that meet this objective. The statute also requires consideration of international standards and, where appropriate, that they be the basis for U.S. standards.

The FAA has assessed the potential effect of this proposed rule and determined that it would improve safety and is consistent with the Trade Agreements Act.

Unfunded Mandates Assessment

The Unfunded Mandates Reform Act of 1995 (2 U.S.C. 1531-1538) governs the issuance of Federal regulations that require unfunded mandates. An unfunded mandate is a regulation that requires a State, local, or Tribal government or the private sector to incur direct costs without the Federal government having first provided the funds to pay those costs. The FAA determined that the proposed rule will not result in the expenditure of $177 million or more by State, local, or Tribal governments, in the aggregate, or the private sector, in any one year.

Paperwork Reduction Act

The Paperwork Reduction Act of 1995 (44 U.S.C. 3507(d)) requires that the FAA consider the impact of paperwork and other information collection burdens imposed on the public. The information collections that are required by this rule are already approved in OMB control number 2120-0749. The FAA has determined that there would be no new requirement for information collection associated with this proposed rule.

Environmental Review

This proposal will be subject to an environmental analysis in accordance with FAA Order 1050.1F: “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 4000 Class C Airspace.

* * * * *

ASO FL C Fort Lauderdale, FL [Amended]

Fort Lauderdale-Hollywood International Airport, FL

(Lat. 26°04′18″ N, long. 080°08′59″ W)

Boundaries

Area A. That airspace extending upward from the surface to and including 4,000 feet MSL within a 7 nautical mile radius of Fort Lauderdale-Hollywood International Airport, excluding the airspace north of lat. 26°10′03″ N, (the eastern most portion of Oakland Park Boulevard located in Lauderdale Beach), and bounded on the south by a 15 nautical mile radius of Miami International Airport, and on the southeast by lat. 26°00′39″ N, (the eastern most portion of Hollywood Boulevard located in Hollywood).

Area B. That airspace extending upward from 1,200 feet MSL to and including 4,000 feet MSL beginning at a point northwest of Fort Lauderdale-Hollywood International Airport at the intersection of a 7 nautical mile radius of Fort Lauderdale-Hollywood International Airport and lat. 26°10′03″ N, thence moving west along lat. 26°10′03″ N, (the eastern most portion of Oakland Park Boulevard located in Lauderdale Beach), to a point that intersects State Road 869/Sawgrass Expressway, thence moving south along State Road 869/Sawgrass Expressway, [continuing south across the intersection of State Road 869/Sawgrass Expressway, Interstate 595, and Interstate 75], and continuing south along Interstate 75 to a point that intersects a 15 nautical mile radius of Miami International Airport, thence moving clockwise along the 15 nautical mile radius to a point that intersects the 7 nautical mile radius of Fort Lauderdale-Hollywood International Airport, thence moving clockwise along the 7 nautical mile radius to the point of beginning.

Area C. That airspace extending upward from 3,000 feet MSL to and including 4,000 feet MSL, excluding the airspace within the Miami, FL, Class B airspace area, within an area bounded on the north by lat. 26°13′53″ N, (aligned with the eastern portion of Atlantic Boulevard located in Pompano Beach), on the west by a 25 nautical mile radius of Fort Lauderdale-Hollywood International Airport, on the south by lat. 25°57′48″ N, on the southeast by a 15 nautical mile radius of Miami International Airport, and on the east by U.S. Route 27.

Area D. That airspace extending upward from 3,000 feet MSL to and including 4,000 feet MSL within an area bounded on the north by lat. 26°13′53″ N, (aligned with the eastern portion of Atlantic Boulevard located in Pompano Beach), on the east by a 25 nautical mile radius of Fort Lauderdale-Hollywood International Airport, on the south by lat. 26°00′39″ N, (the eastern most portion of Hollywood Boulevard located in Hollywood), and on the west by a 20 nautical mile radius of Fort Lauderdale-Hollywood International Airport.

Area E. That airspace extending upward from 1,500 feet MSL to and including 4,000 feet MSL within an area bounded on the north by lat. 26°10′03″ N, (the eastern most portion of Oakland Park Boulevard located in Lauderdale Beach), on the east by the north-south portion of Interstate 75 and State Road 869/Sawgrass Expressway, on the south by a 15 nautical mile radius of Miami International Airport, between Interstate 75/State Road 869/Sawgrass Expressway and lat. 26°01′38″ N, long. 080°23′44″ W, on the southwest by a line extending from lat. 26°01′38″ N, long. 080°23′44″ W, to lat. 26°05′22″ N, long. 080°26′02″ W, and on the west by a line beginning at lat. 26°05′22″ N, long. 080°26′02″ W, and follows U.S. Route 27 north to the point of beginning.

Area F. That airspace extending upward from 2,500 feet MSL to and including 4,000 feet MSL beginning northwest of Fort Lauderdale-Hollywood International Airport at a point that intersects U.S. Route 27 and lat. 26°13′53″ N, (aligned with the eastern portion of Atlantic Boulevard located in Pompano Beach), thence moving east along lat. 26°13′53″ N, to a point that intersects a 20 nautical mile radius of Fort Lauderdale-Hollywood International Airport, thence moving clockwise along the 20 nautical mile radius to a point that intersects lat. 26°00′39″ N, (the eastern most portion of Hollywood Boulevard located in Hollywood), thence moving west to a point that intersects a 15 nautical mile radius of Fort Lauderdale-Hollywood International Airport, thence moving counter-clockwise along the 15 nautical mile radius to a point that intersects lat. 26°10′03″ N, (the eastern most portion of Oakland Park Boulevard located in Lauderdale Beach), thence moving west along lat. 26°10′03″ N, to a point that intersects U.S. Route 27, thence moving north along U.S. Route 27 to the point of beginning.

Area G. That airspace extending upward from 1,200 feet MSL to and including 4,000 feet MSL beginning northeast of Fort Lauderdale-Hollywood International Airport at a point that intersects a 7 nautical mile radius of Fort Lauderdale-Hollywood International Airport and lat. 26°10′03″ N, (the eastern most portion of Oakland Park Boulevard located in Lauderdale Beach), thence moving clockwise along the 7 nautical mile radius to a point that intersects lat. 26°00′39″ N, (the eastern most portion of Hollywood Boulevard located in Hollywood), thence moving east along lat. 26°00′39″ N, to a point that intersects a 15 nautical mile radius of Fort Lauderdale-Hollywood International Airport, thence moving counter-clockwise along the 15 nautical mile radius to a point that intersects lat. 26°10′03″ N, thence moving west along lat. 26°10′03″ N, to the point of beginning.

Area H. That airspace extending upward from 2,600 feet MSL to and including 4,000 feet MSL, excluding the airspace within the Miami, FL, Class B airspace area. The area is bounded on the west by the north-south portion of U.S. Route 27 beginning at the intersection of a 15 nautical mile radius of Miami International Airport to lat. 26°05′22″ N, long. 080°26′02″ W, on the east by a line beginning at lat. 26°05′22″ N, long. 080°26′02″ W, moving southeast to lat. 26°01′38″ N, long. 080°23′44″ W, and on the south by a 15 nautical mile radius from Miami International Airport between lat. 26°01′38″ N, long. 080°23′44″ W and U.S. Route 27.

BILLING CODE 4910-13-P

Issued in Washington, DC, on April 11, 2024.
Frank Lias,
Manager, Rules and Regulations Group.

[FR Doc. 2024-08159 Filed 4-17-24; 8:45 am]

BILLING CODE 4910-13-C